DEPARTMENT OF DEFENSE

Office of the Secretary

[Docket ID: DoD-2021-OS-0043]

Submission for OMB Review; Comment Request; Correction

AGENCY: Office of the Under Secretary of Defense for Personnel and Readiness, Department of Defense (DoD).

ACTION: Information collection notice; correction.

SUMMARY: On June 7, 2021, the DoD published a document that provided notice DoD is submitting an Information Collection Request to the Office of Management and Budget (OMB) to collect information on Service members, DoD Civilians, and DoD contractors in evaluating 20 high and low risk installations as directed in Immediate Action 2 in the Secretary of Defense Memorandum, “Immediate Actions to Counter Sexual Assault and Harassment and the Establishment of a 90-Day Independent Review Commission on Sexual Assault in the Military,” February 26, 2021, DoD requests emergency processing and OMB authorization to collect the information after publication of this notice for a period of six months. Subsequent to publication of the notice, DoD is making a correction to the comment period end date.

DATES: Comments must be received by June 22, 2021.

ADDRESSES: The Department has requested emergency processing from OMB for this information collection request by 15 days after publication of this notice. Interested parties can access the supporting materials and collection instrument as well as submit comments and recommendations to OMB at www.reginfo.gov/public/do/PRAMain. Find this particular information collection by selecting “Currently under 15-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: On June 7, 2021 (86 FR 30289-30290), the DoD published a notice for a 30-day comment period. Subsequent to publication of the notice, DoD is changing the comment period end date, as shown in the DATES section. In the ADDRESSES section, all references to the 30-day comment period have been changed to 15-day comment period. All other information in the notice of June 7, 2021 remains the same.

Dated: June 8, 2021.
Aaron T. Siegel,
Alternate OSD Federal Register, Liaison Officer, Department of Defense.

[FR Doc. 2021-12329 Filed 6-11-21; 8:45 am]

BILLING CODE 5001-06-P